DEPARTMENT OF TRANSPORTATION

Federal Motor Carrier Safety Administration

[Docket No. FMCSA-2018-0159]

Agency Information Collection Activities; Revision of an Approved Information Collection Request: Commercial Driver Licensing and Test Standards

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. FMCSA requests approval to revise and renew an ICR titled, “Commercial Driver Licensing and Test Standards,” due to, in part, a decrease in the number of commercial driver's license records and the addition of one information collection item: “Driver completion of knowledge and skills tests.” This ICR is needed to ensure that drivers, motor carriers and the States are complying with notification and recordkeeping requirements for information related to testing, licensing, violations, convictions and disqualifications and that the information is accurate, complete and transmitted and recorded within certain time periods as required by the Commercial Motor Vehicle Safety Act of 1986 (CMVSA), as amended.

DATES: Please send your comments by November 29, 2018. OMB must receive your comments by this date in order to act quickly on the ICR.

ADDRESSES: All comments should reference Federal Docket Management System (FDMS) Docket Number FMCSA-2018-0159. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Mr. Selden Fritschner, Senior Transportation Specialist, Office of Safety Programs, Commercial Driver's License Division (MC-ESL), Department of Transportation, Federal Motor Carrier Safety Administration, 6th Floor, West Building, 1200 New Jersey Avenue SE, Washington, DC 20590-0001. Telephone: 202-366-0677; Email Address: selden.fritschner@dot.gov. Office hours are from 9 a.m. to 5 p.m., Monday through Friday, except Federal Holidays.

SUPPLEMENTARY INFORMATION:

Title: Commercial Driver Licensing and Test Standards.

OMB Control Number: 2126-0011.

Type of Request: Revision of a currently-approved information collection.

Respondents: Drivers with a commercial learner's permit (CLP) or commercial driver's license (CDL) and State driver licensing agencies.

Estimated Number of Respondents: 7,364,972 driver respondents and 4,746 State respondents.

Estimated Time per Response: Varies.

Expiration Date: October 31, 2018.

Frequency of Response: Varies.

Estimated Total Annual Burden: 2,825,503 hours, which is the total of four tasks for CDL drivers (2,403,248 hours), added to a total of eight tasks for State driver licensing agency CDL activities (422,255 hours).

Information collection tasks and associated burden hours are as follows:

IC-1.1 Driver Notification of Convictions/Disqualifications to Employer: 473,577 hours

IC-1.2 Driver Providing Previous Employment History to New Employer: 297,758 hours

IC-1.3 Driver Completion of the CDL Application Form: 40,719 hours

IC-1.4 Driver Completion of Knowledge and Skills Tests: 1,591,194 hours

IC-2.1 State Recording of Medical Examiner's Certificate Information: 80,344 hours

IC-2.2 State Recording of the Self Certification of Commercial Motor Vehicle (CMV) Operation: 3,018 hours

IC-2.3 State Verification of Medical Certification Status: 3,180 hours

IC-2.4 Annual State Certification of Compliance: 1,632 hours

IC-2.5 State Preparing for and Participating in Annual Program Review: 10,200 hours

IC-2.6 CDLIS/PDPS/State Recordkeeping: 214,548 hours

IC-2.7 Knowledge and Skills Test Recordkeeping: 82,034 hours

IC-2.8 Knowledge and Skills Test Examiner Certification: 27,299 hours

Background: The licensed drivers in the United States deserve reasonable assurance that their fellow motorists are properly qualified to drive the vehicles they operate. Before the Commercial Motor Vehicle Safety Act of 1986 (CMVSA or the Act) Public Law 99-570, Title XII, 100 Stat. 3207, codified at 49 U.S.C. chapter 313) was signed by the President on October 27, 1986, 18 States and the District of Columbia authorized any person licensed to drive an automobile to also legally drive a large truck or bus. No special training or special license was required to drive these vehicles, even though it was widely recognized that operation of certain types of vehicles called for special skills, knowledge and training. Even in the 32 States that had a classified driver licensing system in place, only 12 of these States required an applicant to take a skills test in a representative vehicle. Equally serious was the problem of drivers possessing multiple driver licenses. By spreading their convictions among several States, CMV drivers could avoid punishment for their infringements, and stay behind the wheel.

For a detailed history of regulatory developments in 49 CFR parts 383 and 384 to implement the mandates in the CMVSA, see the supporting statement in the docket for this matter.”

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: October 24, 2018
G. Kelly Regal,
Associate Administrator for Office of Research and Information Technology.

[FR Doc. 2018-23707 Filed 10-29-18; 8:45 am]

BILLING CODE 4910-EX-P